COMMODITY FUTURES TRADING COMMISSION

17 CFR Part 38

RIN 3038-0092, -0094

Customer Clearing Documentation, Timing of Acceptance for Clearing, and Clearing Member Risk Management; Core Principles and Other Requirements for Designated Contract Markets; Correction

AGENCY: Commodity Futures Trading Commission.

ACTION: Final rule; Correction.

SUMMARY: This document corrects incorrect text published in the Federal Register of April 9, 2012, and June 19, 2012, regarding Customer Clearing Documentation, Timing of Acceptance for Clearing, and Clearing Member Risk Management, and Core Principles and Other Requirements for Designated Contract Markets.

DATES: The corrections to FR Doc. 2012-7477 are effective October 1, 2012. The corrections to FR Doc. 2012-12746 are effective August 20, 2012.

FOR FURTHER INFORMATION CONTACT: John C. Lawton, Deputy Director, 202-418-5480, jlawton@cftc.gov, and Christopher A. Hower, Attorney-Advisor, 202-418-6703, chower@cftc.gov, Division of Clearing and Risk, and Camden Nunery, Economist, 202-418-5723, Office of the Chief Economist, Commodity Futures Trading Commission, Three Lafayette Centre, 1155 21st Street NW., Washington, DC 20581; and Hugh J. Rooney, Assistant Director, 312-596-0574, hrooney@cftc.gov, Division of Clearing and Risk, Commodity Futures Trading Commission, 525 West Monroe Street, Chicago, Illinois 60661.

SUPPLEMENTARY INFORMATION: In FR Doc. 2012-7477 appearing on page 21278 in the Federal Register issue of Monday, April 9, 2012, the following corrections are made:

1. On page 21309, in the left column, amendatory instruction 16 is removed.

2. On page 21309, in the middle column, amendatory instruction 17 and subpart L (consisting of §§ 38.600 through 38.606) are removed.

3. On page 21309, in the middle column, amendatory instructions 18 and 19 are redesignated as amendatory instructions 16 and 17.

In FR Doc. 2012-12746 appearing on page 36612 in the Federal Register issue of Tuesday, June 19, 2012, the following correction is made:

4. On page 36705, in the left column, add paragraph (b) to read as follows:

§ 38.601 Mandatory clearing.

* * * * *

(b) A designated contract market must coordinate with each derivatives clearing organization to which it submits transactions for clearing, in the development of rules and procedures to facilitate prompt and efficient transaction processing in accordance with the requirements of § 39.12(b)(7) of this chapter.

Dated: June 8, 2012.
David A. Stawick,
Secretary of the Commission.

[FR Doc. 2012-14655 Filed 6-22-12; 8:45 am]

BILLING CODE P